NATIONAL SCIENCE FOUNDATION

Directorate for Mathematical and Physical Sciences Advisory Committee; Notice of Meeting

In accordance with Federal Advisory Committee Act (Pub. L. 92-463, as amended), the National Science Foundation announces the following meeting:

Name: Directorate for Mathematical and Physical Sciences Advisory Committee (MPSAC) #66.

Date/Time:April 12, 2001, 8 a.m.-6 p.m.; April 13, 2001, 8 a.m.-3:30 p.m.

Place: National Science Foundation, 4201 Wilson Boulevard, Arlington, VA, Room 1235.

Type of Meeting: Open.

Contact Person: Dr. Morris L. Aizenman, Senior Science Associate, National Science Foundation, 4201 Wilson Boulevard, Arlington, VA 22230. Room 1005, (703) 292-8807.

Purpose of Meeting: To provide advice and recommendations concerning NSF science and education activities within the Directorate for Mathematical and Physical Sciences.

Agenda:

Current status of Directorate

Review by MPSAC of Division of Chemistry and Division of Mathematics Committee of Visitors Reports

Web-based Education Presentations

Possible Future MPS Areas of Emphasis

Summary Minutes: May be obtained from the contact person listed above.

Dated: March 13, 2001.
Susanne Bolton,
Committee Management Officer.

[FR Doc. 01-6578 Filed 3-15-01; 8:45 am]

BILLING CODE 7555-01-M